FEDERAL DEPOSIT INSURANCE CORPORATION

Sunshine Act Meeting

TIME AND DATE: 2:00 p.m. on Tuesday, March 17, 2020.

PLACE: The meeting is open to the public. Out of an abundance of caution related to current and potential coronavirus developments, the public's means to observe this Board meeting will be via a Webcast live on the internet and subsequently made available on-demand approximately one week after the event. Visit http://fdic.windrosemedia.com to view the live event. Visit http://fdic.windrosemedia.com/index.php?category=FDIC+Board+Meetings after the meeting. If you need any technical assistance, please visit our Video Help page at: https://www.fdic.gov/video.html.

Observers requiring auxiliary aids (e.g., sign language interpretation) for this meeting should call 703-562-2404 (Voice) or 703-649-4354 (Video Phone) to make necessary arrangements.

STATUS: Open.

MATTERS TO BE CONSIDERED: Pursuant to the provisions of the “Government in the Sunshine Act” (5 U.S.C. 552b), notice is hereby given that the Federal Deposit Insurance Corporation's Board of Directors will meet in open session to consider the following matters:

Summary Agenda

No substantive discussion of the following items is anticipated. These matters will be resolved with a single vote unless a member of the Board of Directors requests that an item be moved to the discussion agenda.

Disposition of Minutes of a Board of Directors' Meeting Previously Distributed.

Summary reports, status reports, reports of actions taken pursuant to authority delegated by the Board of Directors, and report of the Office of Inspector General.

Discussion Agenda

Memorandum and resolution re: Notice of Proposed Rulemaking, Parent Companies of Industrial Banks and Industrial Loan Companies.

CONTACT PERSON FOR MORE INFORMATION: Requests for further information concerning the meeting may be directed to Mr. Robert E. Feldman, Executive Secretary of the Corporation, at 202-898-7043.

Dated at Washington, DC, on March 11, 2020.
Federal Deposit Insurance Corporation.
Annmarie H. Boyd,
Assistant Executive Secretary.

[FR Doc. 2020-05376 Filed 3-11-20; 4:15 pm]

BILLING CODE 6714-01-P